SURFACE TRANSPORTATION BOARD

49 CFR Parts 1002 and 1312

[Docket No. EP 743]

Water Carrier Tariff Filing Procedures

AGENCY: Surface Transportation Board.

ACTION: Notice.

SUMMARY: The Board provides notice that comments to this notice of proposed rulemaking due to the Board during the partial Federal government shutdown period will now be due by February 4, 2019.

DATES: Comments on the proposed rule are due by February 4, 2019. Reply comments are due by March 4, 2019.

ADDRESSES: Comments may be submitted either via the Board's e-filing format or in paper format. Any person using e-filing should attach a document and otherwise comply with the instructions found on the Board's website at www.stb.gov at the E-FILING link. Any person submitting a filing in paper format should send an original and 10 paper copies of the filing to: Surface Transportation Board, Attn: Docket No. EP 743, 395 E Street SW, Washington, DC 20423-0001. Written comments and replies will be posted on the Board's website and can also be obtained by contacting the Office of Public Assistance, Governmental Affairs, and Compliance (OPAGAC) at RCPA@stb.gov or (202) 245-0238.

FOR FURTHER INFORMATION CONTACT: Michael Higgins at 202-245-0284. Assistance for the hearing impaired is available through the Federal Information Relay Service (FIRS) at 1-800-877-8339.

SUPPLEMENTARY INFORMATION: In a notice of proposed rulemaking (NPRM) served on December 21, 2018, the Board proposed new procedures for water carriers operating in the noncontiguous domestic trade to electronically publish, file, and keep tariffs available for public inspection. Notice of the proposed rulemaking was published in the Federal Register on December 26, 2018 (83 FR 66229).

In the NPRM, the Board directed comments to be submitted by January 25, 2019, and reply comments to be submitted by February 25, 2019. During the partial shutdown of the Federal government from December 22, 2018 through January 25, 2019, all deadlines requiring the submission of material to the Board, including the deadlines in this proceeding, were tolled. Comments on the NPRM will be due by February 4, 2019, and reply comments will be due by March 4, 2019.

It is ordered:

1. Comments are due by February 4, 2019. Reply comments are due by March 4, 2019.

2. Notice of this decision will be published in the Federal Register.

3. This decision is effective on its service date.

Decided: January 29, 2019.
By the Board, Allison C. Davis, Acting Director, Office of Proceedings.
Jeffrey Herzig,
Clearance Clerk.

[FR Doc. 2019-00788 Filed 1-31-19; 8:45 am]

BILLING CODE 4915-01-P